DEPARTMENT OF DEFENSE

Office of the Secretary

Defense Innovation Board; Notice of Federal Advisory Committee Meeting

AGENCY: Under Secretary of Defense for Research and Engineering, Department of Defense (DoD).

ACTION: Notice of Federal Advisory Committee meeting.

SUMMARY: The DoD is publishing this notice to announce that the following Federal Advisory Committee meeting of the Defense Innovation Board will take place.

DATES: Open to the public, Thursday, March 5, 2020 from 2:00 p.m. to 4:00 p.m.

ADDRESSES: The meeting will be held at Capital Factory, 701 Brazos St., Austin, TX 78701.

FOR FURTHER INFORMATION CONTACT: Colleen Laughlin, 571-372-0933 (Voice), (Facsimile), colleen.r.laughlin.civ@mail.mil (Email). Mailing address is Defense Innovation Board, 9010 Defense Pentagon, Room 5E572, Washington, DC 20301-9010. Website: https://innovation.defense.gov/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: To obtain, review, and evaluate information related to the Board's mission in advising the Secretary of Defense and the Deputy Secretary of Defense independent advice and recommendations on innovative means to address future challenges in terms of integrated change to organizational structure and processes, business and functional concepts, and technology applications. The Board focuses on (a) technology and capabilities, (b) practices and operations, (c) people and culture, and (d) other research and analysis of topics raised by the Secretary of Defense, Deputy Secretary of Defense, or the Under Secretary of Defense for Research and Engineering.

Agenda: The meeting will begin on March 5, 2020 at 2:00 p.m. with opening remarks by Ms. Colleen Laughlin, the Designated Federal Officer (DFO), and Dr. Eric Schmidt, Board Chair. The Workforce, Behavior, and Culture Subcommittee will present on workforce issues, to include recommendations for a Chief Digital Engineering and Recruiting Management Officer. The Science and Technology Subcommittee will present on a Biotechnology and Data Strategy for the Joint Pathology Center to include presentations from external experts. The Science and Technology committee will also share progress updates from ongoing projects. Following all updates the board will deliberate and vote on pertinent recommendations. The Board will receive an update from the Department on the implementation status of its recommendations. The meeting will adjourn at 4:00 p.m.

Meeting Accessibility: Pursuant to Federal statutes and regulations (the FACA, the Sunshine Act, and 41 CFR 102-3.140 through 102-3.165) and the availability of space, the meeting is open to the public from 2:00 p.m. to 4:00 p.m. Seating is on a first-come basis. Members of the public wishing to attend the meeting or wanting to receive a link to the live stream webcast should register on the Board website, http://innovation.defense.gov/meetings, no later than February 27, 2020. Members of the media should RSVP to the Office of the Assistant to the Secretary of Defense (Public Affairs), at osd.pentagon.pa.list.dop-atl@mail.mil.

Special Accommodations: Individuals requiring special accommodations to access the public meeting should contact the DFO, see the FOR FURTHER INFORMATION CONTACT section for contact information, no later than February 27, 2020, so that appropriate arrangements can be made.

Written Statements: Written comments may be submitted to the DFO via email to mailbox address: osd.innovation@mail.mil in either Adobe Acrobat or Microsoft Word format. The DFO will compile all written submissions and provide them to Board members for consideration. Please note that because the Board operates under the provisions of the FACA, all submitted comments will be treated as public documents and will be made available for public inspection, including, but not limited to, being posted on the Board's website.

Oral Statements: Individuals wishing to make an oral statement to the Board at the public meeting may be permitted to speak for up to two minutes. Anyone wishing to speak to the Board should submit a request by email at osd.innovation@mail.mil no later than February 27, 2020 for planning. Requests for oral comments should include a copy or summary of planned remarks for archival purposes. Individuals may also be permitted to submit a comment request at the public meeting; however, depending on the number of individuals requesting to speak, the schedule may limit participation. Webcast attendees will be provided instructions with the live stream link if they wish to submit comments during the open meeting.

Dated: February 12, 2020.
Aaron T. Siegel,
Alternate OSD Federal Register Liaison Officer, Department of Defense.

[FR Doc. 2020-03113 Filed 2-14-20; 8:45 am]

BILLING CODE 5001-06-P